ENVIRONMENTAL PROTECTION AGENCY

[FRL-7104-8]

Agency Information Collection Activities: Submission for OMB Review; Comment Request; National Emission Standards for Hazardous Air Pollutants (NESHAP) for Ferroalloys Production

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Title: National Emission Standards for Hazardous Air Pollutants (NESHAP) for Ferroalloys Production; OMB Control Number 2060-0391; expiration date October 31, 2001. The ICR describes the nature of the information collection and its expected burden and cost; where appropriate, it includes the actual data collection instrument.

DATES: Comments must be submitted on or before December 19, 2001.

ADDRESSES: Send comments, referencing EPA ICR No. 1831.02 and OMB Control No. 2060-0391, to the following addresses: Susan Auby, U.S. Environmental Protection Agency, Collection Strategies Division (Mail Code 2822), 1200 Pennsylvania Avenue, NW., Washington, DC 20460; and to Office of Information and Regulatory Affairs, Office of Management and Budget (OMB), Attention: Desk Officer for EPA, 725 17th Street, NW., Washington, DC 20503.

FOR FURTHER INFORMATION CONTACT: For a copy of the ICR contact Susan Auby at EPA by phone at (202) 260-4901, by e-mail at Auby.susan@epamail.epa.gov, or download off the Internet at http://www.epa.gov/icr and refer to EPA ICR No. 1831.02. For technical questions about the ICR contact Maria Malavé at (202) 564-7027 or via e-mail to malave.maria@epamail.epa.gov.

SUPPLEMENTARY INFORMATION: Title: National Emission Standards for Hazardous Air Pollutants (NESHAP) for Ferroalloys Production (OMB Control Number 2060-0391; EPA ICR No. 1831.02); expiring October 31, 2001. This is a request for extension of a currently approved collection.

Abstract: The NESHAP for ferroalloys production is applicable to all new and existing ferromanganese and silicomanganese production facilities that are major sources or are co-located at major sources. The sources at these affected facilities subject to this rule include submerged arc furnaces, metal oxygen refining (MOR) process, crushing and screening operations, and fugitive dust operations. The owners or operators of existing affected facilities (i.e., respondents) at the time of promulgation were required to be in compliance with the requirements no later than May 21, 2001. New or constructed affected sources that commence construction/reconstruction after August 1998 were required to be in compliance with the regulation by May 20, 1999, or upon startup, which ever was later.

Owners and operators of affected sources are subject to the monitoring, recordkeeping and reporting requirements of 40 CFR part 63, subpart A, the General Provisions, unless specified otherwise in the regulation. All records of measurements are to be maintained by the source for a period of at least five years. In addition, sources are required to comply with regulation specific requirements related to the frequency and type of information (including records of performance tests; start up, shutdown, and malfunction procedures and corrective actions; operating parameters and maintenance inspections; and opacity and visible emissions observations) to be collected and maintained to demonstrate initial and on-going compliance with the regulation. An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on February 1, 2001 (66 FR 8588). No comments were received.

Burden Statement: The annual public reporting and record keeping burden for this collection of information is estimated to average 24 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Owners and operators of ferroalloys and silicomanganese production facilities.

Estimated Number of Respondents: 1.

Frequency of Response: initial reports, quarterly excess emissions reports; and semiannually for all other reports required in § 63.1659(b).

Estimated Total Annual Hour Burden: 746 hours.

Estimated Total Annualized Capital, O&M Cost Burden: $0.

Send comments on the Agency's need for this information, the accuracy of the provided burden estimates, and any suggested methods for minimizing respondent burden, including through the use of automated collection techniques to the addresses listed above. Please refer to EPA ICR No.1831.02 and OMB Control No. 2060-0391 in any correspondence.

Dated: November 8, 2001.
Oscar Morales,
Director, Collection Strategies Division.

[FR Doc. 01-28854 Filed 11-16-01; 8:45 am]

BILLING CODE 6560-50-P